FEDERAL LABOR RELATIONS AUTHORITY

5 CFR Parts 2416, 2424, 2429, 2471, 2472, and Appendix A to 5 CFR Chapter XIV

New Addresses and Phone Numbers

AGENCY: Federal Labor Relations Authority, General Counsel of the Federal Labor Relations Authority, and Federal Service Impasses Panel.

ACTION: Amendment of rules and regulations.

SUMMARY: The Federal Labor Relations Authority, the General Counsel of the Federal Labor Relations Authority, and the Federal Service Impasses Panel are relocating their headquarters offices. Accordingly, it is necessary to amend 5 CFR Chapter XIV to reflect the change in the addresses, telephone numbers, and fax numbers for these offices.

EFFECTIVE DATE: March 17, 2003.

FOR FURTHER INFORMATION CONTACT: Yvonne Thomas, Director, Administrative Services Division, (202) 482-6650.

SUPPLEMENTARY INFORMATION: Paragraphs (a), (b), (c), and (e) of Appendix A to 5 CFR Chapter XIV set forth the addresses, telephone numbers, and fax numbers of the headquarters offices of the Authority, the General Counsel, the Chief Administrative Law Judge of the Authority, and the Federal Service Impasses Panel, respectively. 5 CFR 2416.170(c) provides for the filing of matters relating to enforcement of nondiscrimination on the basis of handicap; 5 CFR 2424.10 provides the address and telephone number of the Authority's Collaboration and Alternative Dispute Resolution Program; 5 CFR 2429.24(a) specifies the place and method of filing documents with the Authority; and 5 CFR 2471.2, 2471.4, 2472.3, and 2472.5 concern communications with the Federal Service Impasses Panel. Because of the relocation of those offices, and the change in certain telephone numbers, it is necessary to revise these provisions of the agency's regulations.

Regulatory Flexibility Act Certification

Pursuant to section 605(b) of the Regulatory Flexibility Act, 5 U.S.C. 605(b), the Federal Labor Relations Authority has determined that these regulations, as amended, will not have a significant economic impact on a substantial number of small entities, because they apply to federal employees, federal agencies, and labor organizations representing federal employees.

Unfunded Mandates Reform Act of 1995

These regulatory changes will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

These rules are not major rules as defined by section 804 of the Small Business Regulatory Enforcement Fairness Act of 1996. These rules will not result in an annual effect on the economy of $100,000,000 or more; a major increase in costs or prices; or significant adverse effects on competition, employment, investment, productivity, innovation, or on the ability of United States-based companies to compete with foreign-based companies in domestic and export markets.

Paperwork Reduction Act of 1995

These regulations contain no information collection or record keeping requirements under the Paperwork Reduction Act of 1995 (44 U.S.C. 3507 et seq.)

CHAPTER XIV—FEDERAL LABOR RELATIONS AUTHORITY

For the reasons set out in the preamble and under the authority of 5 U.S.C. 7134, these provisions are amended as follows:

PART 2416—ENFORCEMENT OF NONDISCRIMINATION ON THE BASIS OF HANDICAP IN PROGRAMS OR ACTIVITIES CONDUCTED BY THE FEDERAL LABOR RELATIONS AUTHORITY

1. The authority citation for Part 2416 continues to read as follows:

Authority: 29 U.S.C. 794.

2. Section 2416.170(c) is revised to read as follows:

§ 2416.170 Compliance procedures.

* * * * *

(c) The Director, Equal Employment Opportunity, shall be responsible for coordinating implementation of this section. Complaints may be sent to Director, Equal Employment Opportunity, Federal Labor Relations Authority, 1400 K Street, NW., Washington, DC 20424-0001.

* * * * *

PART 2424—NEGOTIABILITY PROCEEDINGS

3. The authority citation for Part 2424 continues to read as follows:

Authority: 5 U.S.C. 7134.

4. Section 2424.10 is revised to read as follows:

§ 2424.10 Collaboration and Alternative Dispute Resolution Program.

Where an exclusive representative and an agency are unable to resolve disputes that arise under this part, they may request assistance from the Collaboration and Alternative Dispute Resolution Program (CADR). Upon request, and as agreed upon by the parties, CADR representatives will attempt to assist the parties to resolve these disputes. Parties seeking information or assistance under this part may call or write the CADR Office at (202) 482-6503, 1400 K Street, NW., Washington, DC 20424-0001. A brief summary of CADR activities is available on the Internet at www.flra.gov.

PART 2429—MISCELLANEOUS AND GENERAL REQUIREMENTS

5. The authority citation for Part 2429 continues to read as follows:

Authority: 5 U.S.C. 7134; § 2429.18 also issued under 28 U.S.C. 2112(a).

6. Section 2429.24(a) is revised to read as follows:

§ 2429.24 Place and method of filing; acknowledgment.

(a) All documents filed or required to be filed with the Authority pursuant to this subchapter shall be filed with the Director, Case Control Office, Federal Labor Relations Authority, Docket Room, Suite 200, 1400 K Street, NW., Washington, DC 20424-0001 (telephone: (202) 482-6540) between 9 a.m. and 5 p.m., Monday through Friday (except Federal holidays). Documents hand-delivered for filing must be presented in the Docket Room not later than 5 p.m. to be accepted for filing on that day.

* * * * *

PART 2471—PROCEDURES OF THE PANEL

7. The authority citation for Part 2471 continues to read as follows:

Authority: 5 U.S.C. 7119, 7134.

8. Sections 2471.2 and 2471.4 are revised to read as follows:

§ 2471.2 Request form.

A form is available for use by the parties in filing a request for consideration of an impasse or approval of a binding arbitration procedure. Copies are available from the Office of the Executive Director, Federal Service Impasses Panel, Suite 200, 1400 K Street, NW., Washington, DC 20424-0001. Telephone (202) 482-6670. Use of the form is not required provided that the request includes all of the information set forth in § 2471.3.

§ 2471.4 Where to file.

Requests to the Panel provided for in this part, and inquiries or correspondence on the status of impasses or other related matters, should be addressed to the Executive Director, Federal Service Impasses Panel, Suite 200, 1400 K Street, NW., Washington, DC 20424-0001. Telephone (202) 482-6670. Fax (202) 482-6674.

PART 2472—IMPASSES ARISING PURSUANT TO AGENCY DETERMINATIONS NOT TO ESTABLISH OR TO TERMINATE FLEXIBLE OR COMPRESSED WORK SCHEDULES

9. The authority citation for Part 2472 continues to read as follows:

Authority: 5 U.S.C. 6131.

10. Sections 2472.3 and 2472.5 are revised to read as follows:

§ 2472.3 Request for Panel Consideration

Either party, or the parties jointly, may request the Panel to resolve an impasse resulting from an agency determination not to establish or to terminate a flexible or compressed work schedule by filing a request as hereinafter provided. A form is available for use by the parties in filing a request with the Panel. Copies are available from the Office of the Executive Director, Federal Service Impasses Panel, Suite 200, 1400 K Street, NW., Washington, DC 20424-0001. Telephone (202) 482-6670. Fax (202) 482-6674. Use of the form is not required provided that the request includes all of the information set forth in § 2472.4.

§ 2472.5 Where to file.

Requests to the Panel provided for in these rules, and inquiries or correspondence on the status of impasses or other related matters, should be directed to the Executive Director, Federal Service Impasses Panel, Suite 200, 1400 K Street, NW., Washington, DC 20424-0001. Telephone (202) 482-6670. Fax (202) 482-6674.

Appendix A to 5 CFR Ch. XIV—Current Addresses and Geographic Jurisdictions

11. Appendix A to 5 CFR Ch. XIV is amended by revising paragraphs (a), (b), (c) and (e) to read as follows:

(a) The Office address, telephone number, and fax number of the Authority are: Suite 200, 1400 K Street, NW., Washington, DC 20424-0001; telephone: (202) 482-6540; fax: (202) 482-6657.

(b) The Office address, telephone number, and fax number of the General Counsel are: Suite 200, 1400 K Street, NW., Washington, DC 20424; telephone: (202) 482-6600; fax:(202) 482-6608.

(c) The Office address, telephone number, and fax number of the Chief Administrative Law Judge are: Suite 300, 1400 K Street, NW., Washington, DC 20424; telephone: (202) 482-6630; fax: (202) 482-6629.

* * * * *

(e) The Office address, telephone number, and fax number of the Federal Service Impasses Panel are: Suite 200, 1400 K Street, NW., Washington, DC 20424; telephone: (202) 482-6670; fax: (202) 482-6674.

* * * * *

(5 U.S.C. 7134)

Dated: March 4, 2003.
Yvonne Thomas,
Director, Administrative Services Division, Federal Labor Relations Authority.

[FR Doc. 03-5429 Filed 3-6-03; 8:45 am]

BILLING CODE 6712-01-P